DEPARTMENT OF THE INTERIOR

National Park Service

Notice of Inventory Completion: University of Colorado Museum, Boulder, CO

AGENCY: National Park Service, Interior.

ACTION: Notice.

Notice is here given in accordance with the Native American Graves Protection and Repatriation Act (NAGPRA), 25 U.S.C. 3003, of the completion of an inventory of human remains and associated funerary objects in the possession of the University of Colorado Museum, Boulder, CO. The human remains and associated funerary objects were removed from Meagher County, MT.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by University of Colorado Museum professional staff in consultation with representatives of the Arapahoe Tribe of the Wind River Reservation, Wyoming; Blackfeet Tribe of the Blackfeet Indian Reservation of Montana; Cheyenne-Arapaho Tribes of Oklahoma; Cheyenne River Sioux Tribe of the Cheyenne River Reservation, South Dakota; Crow Tribe of Montana; Fort Belknap Indian Community of the Fort Belknap Reservation of Montana; Fort Sill Apache Tribe of Oklahoma; Jicarilla Apache Nation, New Mexico; Kiowa Indian Tribe of Oklahoma; Northern Cheyenne Tribe of the Northern Cheyenne Indian Reservation, Montana; Pawnee Nation of Oklahoma; Southern Ute Indian Tribe of the Southern Ute Reservation, Colorado; Three Affiliated Tribes of the Fort Berthold Reservation, North Dakota; Ute Indian Tribe of the Uintah & Ouray Reservation, Utah; and Ute Mountain Tribe of the Ute Mountain Reservation, Colorado, New Mexico & Utah. The Apache Tribe of Oklahoma; Comanche Nation, Oklahoma; Mescalero Apache Tribe of the Mescalero Reservation, New Mexico; Oglala Sioux Tribe of the Pine Ridge Reservation, South Dakota; Rosebud Sioux Tribe of the Rosebud Indian Reservation, South Dakota; and Standing Rock Sioux Tribe of North & South Dakota were provided with copies of all available documentation.

In 1905, human remains representing a minimum of five individuals were removed from “in a butte (“Sentinal [sic] Rock”), Meagher County, MT,” by Ralph Hubbard. The human remains were later sent to the museum by Mr. Hubbard. In 1993, the human remains were found uncatalogued during an inventory and subsequently catalogued (99195-#1, 99195-#2, 99195-#3, 99195-#4, 99195-#5). No known individuals were identified. The two associated funerary objects are one tin spoon and one coyote molar.

Based on a note written by Mr. Hubbard, the human remains are Native American. Based on Indian Claims Commission decisions, the human remains are reasonably believed to be Blackfeet, Crow, Gros Ventre, or Assiniboine. Descendants of the Blackfeet are members of the Blackfeet Tribe of the Blackfeet Indian Reservation of Montana. The Fort Belknap Indian Community of the Fort Belknap Reservation of Montana confirms that the Gros Ventre and Assiniboine ranged through the Meagher County area mainly in the form of hunting and war parties. The descendants of the Gros Ventre and Assiniboine are members of the Fort Belknap Indian Community of the Fort Belknap Reservation of Montana. Based on oral tradition, the Three Affiliated Tribes of the Fort Berthold Reservation, North Dakota, includes Meagher County as a part of their traditional territory. The Three Affiliated Tribes of the Fort Berthold Reservation, North Dakota are comprised of Arikara, Hidatsa, and Mandan peoples. The Crow people were once a part of the Hidatsa Nation based on Crow oral tradition. Therefore, the Hidatsa people of the Three Affiliated Tribes of the Fort Berthold Reservation, North Dakota and Crow Tribe of Montana have a relationship of shared group identity.

Officials of the University of Colorado Museum have determined that, pursuant to 25 U.S.C. 3001 (9-10), the human remains described above represent the physical remains of five individuals of Native American ancestry. Officials of the University of Colorado Museum also have determined that, pursuant to 25 U.S.C. 3001 (3)(A), the two objects described above are reasonably believed to have been placed with or near individual human remains at the time of death or later as part of the death rite or ceremony. Lastly, officials of the University of Colorado Museum have determined that, pursuant to 25 U.S.C. 3001 (2), there is a relationship of shared group identity that can be reasonably traced between the Native American human remains and associated funerary objects and the Blackfeet Tribe of the Blackfeet Indian Reservation of Montana; Crow Tribe of Montana; Fort Belknap Indian Community of the Fort Belknap Reservation of Montana; and Three Affiliated Tribes of the Fort Berthold Reservation, North Dakota.

Representatives of any other Indian tribe that believes itself to be culturally affiliated with the human remains and associated funerary objects should contact Steve Lekson, Curator of Anthropology, University of Colorado Museum, Henderson Building, Campus Box 218, Boulder, CO 80309-0218, telephone (303) 492-6671, before March 14, 2008. Repatriation of the human remains and associated funerary objects to the Blackfeet Tribe of the Blackfeet Indian Reservation of Montana; Crow Tribe of Montana; Fort Belknap Indian Community of the Fort Belknap Reservation of Montana; and Three Affiliated Tribes of the Fort Berthold Reservation, North Dakota may proceed after that date if no additional claimants come forward.

University of Colorado Museum is responsible for notifying the Apache Tribe of Oklahoma; Arapahoe Tribe of the Wind River Reservation, Wyoming; Blackfeet Tribe of the Blackfeet Indian Reservation of Montana; Cheyenne-Arapaho Tribes of Oklahoma; Cheyenne River Sioux Tribe of the Cheyenne River Reservation, South Dakota; Comanche Nation, Oklahoma; Crow Tribe of Montana; Fort Belknap Indian Community of the Fort Belknap Reservation of Montana; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Oglala Sioux Tribe of the Pine Ridge Reservation, South Dakota; Pawnee Nation of Oklahoma; Rosebud Sioux Tribe of the Rosebud Indian Reservation, South Dakota; Southern Ute Indian Tribe of the Southern Ute Reservation, Colorado; Standing Rock Sioux Tribe of North & South Dakota; Three Affiliated Tribes of the Fort Berthold Reservation, North Dakota; Ute Indian Tribe of the Uintah & Ouray Reservation, Utah; and Ute Mountain Tribe of the Ute Mountain Reservation, Colorado, New Mexico & Utah that this notice has been published.

Dated: January 9, 2008.
Sherry Hutt,
Manager, National NAGPRA Program.

[FR Doc. E8-2575 Filed 2-12-08; 8:45 am]

BILLING CODE 4312-50-S